ENVIRONMENTAL PROTECTION AGENCY

[CERCLA-04-2017-3757; FRL-9965-77-Region 4]

Coronet Industries, Inc. Plant City, Hillsborough County, Florida; Notice of Amendment to Federal Register Notice

AGENCY: Environmental Protection Agency (EPA).

ACTION: Notice; amendment.

SUMMARY: On July 26, 2017, the Environmental Protection Agency (EPA) published a Notice of Settlement under Section 122(h) of the Comprehensive Environmental Response, Compensation and Liability Act (CERCLA) addressing cost for work performed at the Coronet Industries, Inc. Site located in Plant City, Hillsborough County, Florida, FRL-9965-49-Region 4 (82 FR 34655). The published notice did not list Coronet Industries Inc, as one of the settling parties to the settlement.

DATES: The comment period for the original notice is unchanged. The Agency will consider public comments on the settlement until August 25, 2017. The Agency will consider all comments received and may modify or withdraw its consent to the settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

• Internet: https://www.epa.gov/aboutepa/about-epa-region-4-southeast#r4-public-notices.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404-562-8887. Attn: Paula V. Painter, 61 Forsyth Street SW., Atlanta, Georgia 30303.

• Email: Painter.Paula@epa.gov.

Dated: July 27, 2017.
Anita L. Davis,
Chief, Enforcement and Community Engagement Branch, Superfund Division.

[FR Doc. 2017-16899 Filed 8-9-17; 8:45 am]

BILLING CODE 6560-50-P